DEPARTMENT OF HOMELAND SECURITY

Coast Guard

33 CFR Part 165

[USCG-2003-15023]

Safety Zones, Security Zones and Regulated Navigation Areas

AGENCY: Coast Guard, DHS.

ACTION: Notice of temporary rules issued.

SUMMARY: This document provides required notice of substantive rules issued by the Coast Guard and temporarily effective between October 1, 2002, and December 31, 2002, that were not published in the Federal Register. This quarterly notice lists temporary security zones, safety zones and regulated navigation areas of limited duration and for which timely publication in the Federal Register was not possible.

DATES: This notice lists temporary Coast Guard rules that became effective and were terminated between October 1, 2002, and December 31, 2002.

ADDRESSES: The Docket Management Facility maintains the public docket for this notice. Documents indicated in this notice will be available for inspection or copying at the Docket Management Facility, U.S. Department of Transportation, Room PL-401, 400 Seventh Street, SW., Washington, DC 20593-0001 between 9 a.m. and 5 p.m., Monday through Friday, except Federal holidays. You may electronically access the public docket for this notice on the Internet at http:dms.dot.gov.

FOR FURTHER INFORMATION CONTACT: For questions on this notice, contact LT Sean Fahey, Office of Regulations and Administrative Law, telephone (202) 267-2830. For questions on viewing, or on submitting material to the docket, contact Dorothy Beard, Chief, Dockets, Department of Transportation at (202) 366-5149.

SUPPLEMENTARY INFORMATION: Coast Guard District Commanders and Captains of the Port (COTP) must be immediately responsive to the safety and security needs of the waters within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities. Regulated navigation areas are fixed locations where the movement of vessels inside is limited for environmental, safety or security purposes. Timely publication of these rules in the Federal Register is often precluded when a rule responds to an emergency, or when a event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these security zones, safety zones or regulated navigation areas by Coast Guard officials on-scene prior to any enforcement action. However, the Coast Guard, by law, must publish in the Federal Register notice of substantive rules adopted. To meet this obligation without imposing undue expense on the public, the Coast Guard periodically publishes a list of these temporary security zones, safety zones and regulated navigation areas. Permanent rules are not included in this list because they are published in their entirety in the Federal Register. Temporary rules may also be published in their entirety if sufficient time is available to do so before they are placed in effect or terminated. The safety zones, security zones and regulated navigation areas listed in this notice have been exempted from review under Executive Order 12866, Regulatory Planning and Review, because of their emergency nature, or limited scope and temporary effectiveness.

The following rules were placed in effect temporarily during the period from October 1, 2002, through December 31, 2002, unless otherwise indicated. This notice also includes rules that were not received in time to be included on the quarterly notice for the third quarter of 2002.

Dated: April 22, 2003.
S.G. Venckus,
Chief, Office of Regulations and Administrative Law.

COTP Quarterly Report—4th Quarter 2002
COTP docket | Location | Type | Effective date
CHARLESTON 02-142 | COOPER RIVER, PORT OF CHARLESTON, SC | SAFETY ZONE | 11/15/2002
HOUSTON-GALVESTON 02-019 | SAN JACINTO RIVER, HOUSTON, TX | SAFETY ZONE | 10/29/2002
HOUSTON-GALVESTON 02-020 | SAN JACINTO RIVER, HOUSTON, TX | SAFETY ZONE | 11/04/2002
HOUSTON-GALVESTON 02-021 | SAN JACINTO RIVER, HOUSTON, TX | SAFETY ZONE | 11/05/2002
HOUSTON-GALVESTON 02-022 | SAN JACINTO RIVER, HOUSTON, TX | SAFETY ZONE | 11/06/2002
HOUSTON-GALVESTON 02-023 | SAN JACINTO RIVER, HOUSTON, TX | SAFETY ZONE | 11/09/2002
HUNTINGTON 02-010 | ELK RIVER, M. 0 TO 2 | SECURITY ZONE | 10/31/2002
JACKSONVILLE 02-129 | ST. JOHNS RIVER, JACKSONVILLE, FL | SAFETY ZONE | 10/31/2002
JACKSONVILLE 02-149 | ST. JOHNS RIVER, JACKSONVILLE, FL | SAFETY ZONE | 11/30/2002
JACKSONVILLE 02-150 | ST. JOHNS RIVER, JACKSONVILLE, FL | SAFETY ZONE | 12/11/2002
LOUISVILLE 02-008 | OHIO RIVER, M. 468.5 TO 473 | SECURITY ZONE | 10/07/2002
LOUISVILLE 02-011 | OHIO RIVER, M. 466.8 TO 470.5 | SAFETY ZONE | 10/19/2002
MIAMI 02-114 | MIAMI RIVER, MIAMI, FL | SAFETY ZONE | 10/03/2002
MIAMI 02-136 | INTRACOASTAL WATERWAY, WEST PALM BEACH, FL | SAFETY ZONE | 12/07/2002
MIAMI 02-137 | NEW RIVER, FORT LAUDERDALE, FL | SAFETY ZONE | 12/07/2002
MIAMI 02-138 | MIAMI BEACH, FL | SAFETY ZONE | 12/31/2002
MIAMI 02-139 | MIAMI BEACH, FL | SAFETY ZONE | 12/31/2002
MIAMI 02-140 | INTRACOASTAL WATERWAY, FT. LAUDERDALE, FL | SAFETY ZONE | 12/14/2002
MIAMI 02-152 | MIAMI RIVER, MIAMI, FL | SAFETY ZONE | 12/19/2002
MOBILE 02-018 | PASCAGOULA, MISSISSIPPI | SAFETY ZONE | 10/05/2002
MOBILE 02-021 | GULFPORT, MISSISSIPPI | SAFETY ZONE | 10/04/2002
MOBILE 02-023 | GULFPORT CHANNEL, GULFPORT, MISSISSIPPI | SAFETY ZONE | 10/03/2002
MOBILE 02-023 | BLACK WARRIOR RIVER, WALKER COUNTY, AL | SAFETY ZONE | 11/05/2002
MORGAN CITY 02-008 | GULF INTRACOASTAL WATERWAY, M. 98 TO 99 | SAFETY ZONE | 10/22/2002
MORGAN CITY 02-009 | GULF INTRACOASTAL WATERWAY, M. 86 TO 88 | SAFETY ZONE | 10/18/2002
MORGAN CITY 02-010 | GULF INTRACOASTAL WATERWAY, M. 173 TO 175 | SAFETY ZONE | 11/09/2002
NEW ORLEANS 02-023 | TCHEFUNCT RIVER, M. 1 TO 3 | SAFETY ZONE | 10/11/2002
NEW ORLEANS 02-024 | SOUTH SHORE, NEW ORLEANS, LA | SAFETY ZONE | 11/06/2002
NEW ORLEANS 02-026 | OUACHITA RIVER, M. 165 TO 168 | SAFETY ZONE | 12/07/2002
NEW ORLEANS 02-027 | RED RIVER, M. 87 TO 90 | SAFETY ZONE | 12/20/2002
PADUCAH 02-010 | OHIO RIVER, M. 934 TO 936 | SAFETY ZONE | 10/24/2002
PADUCAH 02-011 | UPPER MISSISSIPPI RIVER, M. 51.5 TO 52.5 | SAFETY ZONE | 11/18/2002
PADUCAH 02-012 | UPPER MISSISSIPPI RIVER, M. 51.5 TO 52.5 | SAFETY ZONE | 12/03/2002
PADUCAH 02-013 | UPPER MISSISSIPPI RIVER, M. 51.5 TO 52.5 | SAFETY ZONE | 12/17/2002
PITTSBURGH 02-025 | ALLEGHENY RIVER, M. 0.3 TO 0.6 | SAFETY ZONE | 10/04/2002
PITTSBURGH 02-026 | ALLEGHENY RIVER, M. 0.4 TO 0.8 | SAFETY ZONE | 11/21/2002
PITTSBURGH 02-027 | ALLEGHENY RIVER, M. 0.6 TO 0.9 | SAFETY ZONE | 12/03/2002
PORT ARTHUR 02-007 | CAPTAIN OF THE PORT, PORT ARTHUR, AREA | SAFETY ZONE | 10/02/2002
SAN DIEGO 02-020 | SAN DIEGO BAY, SAN DIEGO, CA | SAFETY ZONE | 10/05/2002
SAN DIEGO 02-025 | NATIONAL CITY MARINE TERMINAL, SAN DIEGO, CA | SECURITY ZONE | 10/14/2002
SAN DIEGO 02-027 | NATIONAL CITY MARINE TERMINAL, SAN DIEGO, CA | SECURITY ZONE | 10/26/2002
SAN FRANCISCO BAY 02-020 | SAN FRANCISCO BAY, CALIFORNIA | SECURITY ZONE | 11/15/2002
SAN FRANCISCO BAY 02-021 | SAN FRANCISCO BAY, CALIFORNIA | SAFETY ZONE | 12/31/2002
SAN JUAN 02-126 | LAS MAREAS HARBOR, GUAYAMA, PUERTO RICO | SAFETY ZONE | 10/17/2002
SAVANNAH 02-134 | SAVANNAH RIVER, SAVANNAH, GA | SECURITY ZONE | 11/13/2002
WILMINGTON 02-001 | WILMINGTON, NORTH CAROLINA | SECURITY ZONE | 10/29/2002

District Quarterly Report—4th Quarter 2002
District docket | Location | Type | Effective date
01-02-119 | SOUTH BOSTON, MA | SAFETY ZONE | 10/04/2002
01-02-125 | FORE RIVER AND LONG CREEK, PORTLAND, ME | SECURITY ZONE | 10/21/2002
01-02-126 | VERRANZONO NARROWS BRIDGE, NEW YORK | SECURITY ZONE | 11/03/2002
01-02-127 | BOSTON, MA | SAFETY ZONE | 10/21/2002
01-02-149 | PORT OF NEW YORK/NEW JERSEY | SECURITY ZONE | 12/31/2002
05-02-081 | YORK RIVER, WEST POINT, VA | SAFETY ZONE | 10/05/2002
05-02-082 | HAMPTON ROADS, ELIZABETH RIVER, VIRGINIA | SECURITY ZONE | 10/06/2002
05-02-083 | HAMPTON ROADS, ELIZABETH RIVER, VIRGINIA | SECURITY ZONE | 10/07/2002
05-02-084 | HAMPTON ROADS, ELIZABETH RIVER, VIRGINIA | SECURITY ZONE | 10/12/2002
05-02-085 | HAMPTON ROADS, ELIZABETH RIVER, VIRGINIA | SECURITY ZONE | 10/14/2002
05-02-086 | HAMPTON ROADS, ELIZABETH RIVER, VIRGINIA | SECURITY ZONE | 10/24/2002
05-02-088 | HAMPTON ROADS, ELIZABETH RIVER, VIRGINIA | SECURITY ZONE | 10/26/2002
05-02-089 | HAMPTON ROADS, ELIZABETH RIVER, VIRGINIA | SECURITY ZONE | 10/29/2002
05-02-094 | HAMPTON ROADS, ELIZABETH RIVER, VIRGINIA | SECURITY ZONE | 11/12/2002
05-02-096 | ELIZABETH RIVER, PORTSMOUTH, VIRGINIA | SAFETY ZONE | 12/14/2002
05-02-098 | CHESAPEAKE BAY, HAMPTON ROADS, VA | SAFETY ZONE | 12/17/2002
05-02-104 | HAMPTON ROADS, ELIZABETH RIVER, VA | SECURITY ZONE | 12/29/2002
05-02-105 | CHESAPEAKE BAY, HAMPTON ROADS, VA | SAFETY ZONE | 12/27/2002
08-02-016 | LOWER MISSISSIPPI RIVER, M. 529.8 to 532.3 | REG NAV AREA | 11/30/2002
09-02-524 | CHICAGO RIVER, CHICAGO, IL | SAFETY ZONE | 11/04/2002
09-02-525 | CHICAGO ZONE, LAKE MICHIGAN | SECURITY ZONE | 11/06/2002
09-02-527 | NAVY PIER, CHICAGO HARBOR, IL | SAFETY ZONE | 12/13/2002
13-02-012 | ELLIOTT BAY, WA | SAFETY ZONE | 11/02/2002
13-02-017 | ELLIOTT BAY, WA | SAFETY ZONE | 10/26/2002
12-02-019 | PUGET SOUND, WA | SECURITY ZONE | 11/11/2002

Regulations Not on Previous 3rd Quarterly Report
District/COTP | Location | Type | Effective date
COTP REGULATIONS FOR 3RD QUARTER
MOBILE 02-020 | GULFPORT, MISSISSIPPI, PASCAGOULA, MS, AND MOBILE, AL | SAFETY ZONE | 09/25/02

[FR Doc. 03-10423 Filed 4-25-03; 8:45 am]

BILLING CODE 4910-15-M